DEPARTMENT OF HEALTH AND HUMAN SERVICES

Health IT Standards Committee; Schedule for the Assessment of Health IT Policy Committee Recommendations

AGENCY: Office of the National Coordinator for Health Information Technology, HHS.

ACTION: Notice.

SUMMARY: Section 3003(b)(3) of the American Recovery and Reinvestment Act of 2009 mandates that the Health IT Standards Committee develop a schedule for the assessment of policy recommendations developed by the Health IT Policy Committee and publish it in the Federal Register. This notice fulfills the requirements of Section 3003(b)(3) and updates the schedule posted in the Federal Register on August 18, 2014. In anticipation of receiving recommendations originally developed by the Health IT Policy Committee, the Health IT Standards Committee will form task forces that will be convened to address specific issues, as needed.

Health IT Standards Committee's Schedule for the Assessment of Health IT Policy Committee Recommendations is as follows:

The National Coordinator will establish priority areas based in part on recommendations received from the Health IT Policy Committee regarding health information technology standards, implementation specifications, and/or certification criteria. Once the Health IT Standards Committee is informed of those priority areas, it will:

(A) Identify the best mechanism by which to organize itself in order to respond to the National Coordinator within 90 days with, at a minimum, the following:

(1) An assessment of what standards, implementation specifications, and certification criteria are currently available to meet the priority area;

(2) An assessment of where gaps exist (i.e., no standard is available or harmonization is required because more than one standard exists) and identify potential organizations that have the capability to address those gaps; and

(3) a timeline, which may also account for NIST testing, where appropriate, and include dates when the Health IT Standards Committee is expected to issue recommendation(s) to the National Coordinator.

(B) Upon responding to the National Coordinator, the Health IT Standards Committee will:

(1) Approve a timeline by which it will deliver recommendations to the National Coordinator; and

(2) Determine whether to establish a task force to conduct research and solicit testimony, where appropriate, and issue recommendations to the full committee in a timely manner.

(C) Advise the National Coordinator, consistent with the accepted timeline in (B)(1) and after NIST testing, where appropriate, on standards, implementation specifications, and/or certification criteria, for the National Coordinator's review and determination whether or not to endorse the recommendations, and possible adoption of the proposed recommendations by the Secretary of the Department of Health and Human Services.

The standards and related topics which the Health IT Standards Committee is expected to address over the coming year include, but may not be limited to: Quality measurement; the extended portfolio of standards for the nationwide health information network; distributed queries and results; radiology; consumer-mediated information exchange; public health; data portability; and a process for the maintenance of standards.

For a listing of upcoming Health IT Standards Committee meetings, please visit the ONC Web site at http://www.healthit.gov/facas/calendar.

Notice of this schedule is given under the American Recovery and Reinvestment Act of 2009 (Pub. L. 111-5), section 3003.

Dated: August 3, 2015.
Michelle Consolazio,
FACA Lead, Office of Policy, Office of the National Coordinator for Health Information Technology.

[FR Doc. 2015-19620 Filed 8-7-15; 8:45 am]

BILLING CODE 4150-45-P